DEPARTMENT OF JUSTICE

Drug Enforcement Administration

Robert V. Cattani, M.D.; Decision and Order

On February 19, 2014, the Deputy Assistant Administrator, Office of Diversion Control, Drug Enforcement Administration, issued an Order to Show Cause to Robert V. Cattani, M.D. (hereinafter, Registrant, of Staten Island, New York. The Show Cause Order proposed the revocation of Registrant's DEA Certificate of Registration AC6553437, which authorizes him to dispense controlled substances in schedules II through V as a practitioner, on the ground that he does not possess “authority to practice medicine or handle controlled substances in the State of New York, the State in which [he is] registered.” Show Cause Order at 1.

The Show Cause Order alleged that Registrant is registered as a practitioner in schedules II through V at the registered location of 450 Slosson Avenue, Staten Island, New York and that his registration does not expire until August 31, 2014. Id. The Show Cause Order then alleged that on November 11, 2011, the New York State Department of Health, State Board for Professional Medical Conduct had summarily suspended Registrant's medical license, and that following a hearing, the Board revoked his medical license effective September 10, 2012. Id. The Show Cause Order further alleged that on April 11, 2013, the New York State Professional Medical Conduct Administrative Review Board denied Registrant's appeal of the Board's order, and that order remains in effect. Id. Based on Registrant's “lack of authority to handle controlled substances in the State of New York,” the Show Cause Order thus asserted that his registration must be revoked. Id. at 2 (citing 21 U.S.C. 802(21), 823(f), and 824(a)(3)). Finally, the Show Cause Order notified Registrant that he had the right to request a hearing on the allegations or to submit a written statement in lieu of a hearing, the procedures for electing either option, and the consequence of failing to electing either option. Id.

On March 4, 2014, two DEA Diversion Investigators (DIs) went to a residence located in Lloyd Harbor, New York, which they believed was Registrant's residence. GX 2, at 3. Beforehand, they went to the post office which services this address and confirmed that Registrant was still receiving mail at this address. Id. The DIs then went to the residence, where they rang the bell and knocked on the door. Id. While the DIs heard a voice inside, no one answered the door. The DI then attached the envelope which contained the Show Cause Order to the front door. Id.

As the DIs were walking away, a male opened the door from inside and retrieved the envelope; the DI asked the person if he was Registrant. Id. While the person said “no” and slammed the door, the DI recognized him as being Registrant from photographs she had previously seen. Id.

On leaving the residence, the DI also noted the license plate number of a vehicle parked in the driveway. Id. The next day she determined that the car had been rented by Registrant. Id.

Based on the above, I find that Registrant has been served with the Order to Show Cause. Based on the Government's representation that since the date of service, neither Registrant, nor any person purporting to represent him, “has requested a hearing or otherwise corresponded with DEA” regarding the Show Cause Order, and finding that more than thirty (30 days) have no passed, I find that Registrant has waived his right to request a hearing or to submit a written statement in lieu of a hearing. 21 CFR 1301.43(d). I therefore issue this Decision and Final Order based on the record submitted by the Government. 21 CFR 1301.43(e). I make the following findings.

Findings

Registrant is the holder of DEA Certificate of Registration AC6553437, which authorizes him to dispense controlled substances in schedules II through V as a practitioner at the registered address of 450 Slosson Avenue, Staten Island, New York. GX 2A. His registration does not expire until August 31, 2014. Id.

On November 2, 2011, the New York Bureau of Professional Medical Conduct issued a Statement of Charges to Registrant, alleging, inter alia, that he had committed gross negligence in performing plastic surgery on five patients, that he “practice[ed] the profession of medicine with negligence” and “with incompetence on more than one occasion,” and that he failed to maintain accurate records regarding his treatment of four of the patients. GX 2B. On December 6, 2011, the Commissioner of the New York Department of Health concluded that Registrant's “continued practice of medicine . . . constitutes an imminent danger to the health of the people of this state” and ordered Registrant to “immediately” cease the practice of medicine. GX 2C.

Thereafter, a Hearing Committee of the State Board conducted a hearing. On September 10, 2012, the Committee issued its Determination and Order in which it found most of the charges proved and determined that “the only way to ensure the safety of the public is to revoke [Registrant's] medical license.” GX 2I, at 42. The Committee thus ordered the revocation of Registrant's medical license, effective upon service of the order. Id. at 43.

Registrant then sought review from the New York Department of Health Administrative Review Board (ARB). GX 2J. On or about April 4, 2013, the ARB issued its Determination and Order, affirming the Hearing Committee's determinations that Registrant “committed professional misconduct” and to revoke his medical license. Id. at 9. A search conducted on the New York State Office of the Professions online verification page establishes that Registrant's medical license remains revoked.

Discussion

The Controlled Substances Act (CSA) grants the Attorney General authority to revoke a registration “upon a finding that the registrant . . . has had his State license or registration suspended [or] revoked . . . and is no longer authorized by State law to engage in the . . . distribution [or] dispensing of controlled substances.” 21 U.S.C. 824(a)(3). Moreover, DEA has long held that a practitioner must be currently authorized to handle controlled substances in the “jurisdiction in which [he] practices” in order to maintain a DEA registration. See 21 U.S.C. 802(21) (“the term `practitioner' means a . . . physician . . . or other person licensed, registered or otherwise permitted, by . . . the jurisdiction in which he practices . . . to distribute, dispense, [or] administer . . . a controlled substance in the course of professional practice.”); see also id. § 823(f) (“The Attorney General shall register practitioners . . . if the applicant is authorized to dispense . . . controlled substances under the laws of the State in which he practices.”). As these provisions make plain, possessing authority under state law to dispense controlled substances is an essential condition for holding a DEA registration. See David W. Wang, 72 FR 54297, 54298 (2007); Sheran Arden Yeates, 71 FR 39130, 39131 (2006); Dominick A. Ricci, 58 FR 51104, 51105 (1993); Bobby Watts, 53 FR 11919, 11920 (1988).

Here, the evidence shows that Respondent's medical license has been revoked and that he no longer holds authority under New York law to dispense controlled substances. Registrant is therefore not entitled to maintain his DEA registration. See 21 U.S.C. 802(21), 823(f), and 824(a)(3). Accordingly, Registrant's registration will be revoked.

Order

Pursuant to the authority vested in me by 21 U.S.C. 823(f) and 824(a), as well as 28 CFR 0.100(b) and 0.104, I order that DEA Certificate of Registration AC6553437, issued to Robert V. Cattani, M.D., be, and it hereby is, revoked. I further order that any pending application of Robert V. Cattani, M.D., to renew or modify his registration, be, and it hereby is, denied. This Order is effective August 29, 2014.

Dated: July 22, 2014.
Thomas M. Harrigan,
Deputy Administrator.

[FR Doc. 2014-17892 Filed 7-29-14; 8:45 am]

BILLING CODE 4410-09-P